OVERSEAS PRIVATE INVESTMENT CORPORATION

January 23, 2003, Public Hearing

OPIC's Sunshine Act notice of its public hearing was published in the Federal Register (volume 68, number 4, page 816) on January 7, 2003. No requests were received to provide testimony or submit written statements for the record; therefore, OPIC's public hearing in conjunction with OPIC's January 30, 2003, Board of Directors meeting scheduled for 1 p.m. on January 23, 2003, has been cancelled.

Contact Person for Information: Information on the hearing cancellation may be obtained from Connie M. Downs at (202) 336-8438, via facsimile at (202) 218-0136, or via email at cdown@opic.gov.

Dated: January 22, 2003.
Connie M. Downs,
OPIC Corporate Secretary.

[FR Doc. 03-1888 Filed 1-23-03; 8:45 am]

BILLING CODE 3210-01-M